DEPARTMENT OF THE INTERIOR

Bureau of Indian Affairs

Proposed Finding Against Federal Acknowledgment of the Choctaw Nation of Florida Tribe

AGENCY: Bureau of Indian Affairs, Interior.

ACTION: Notice of proposed finding.

SUMMARY: Pursuant to 25 CFR 83.10(e), notice is hereby given that the Assistant Secretary—Indian Affairs (AS-IA) proposes to decline to acknowledge that the group known as the “Choctaw Nation of Florida” (CNF), Petitioner #288, c/o Mr. Alfonso James, Jr., Post Office Box 6322, Marianna, Florida, 32447, is an Indian tribe within the meaning of Federal law. This notice is based on an investigation that determined that the petitioner does not meet one of the seven mandatory criteria set forth in 25 CFR Part 83.7, specifically criterion 83.7(e), and therefore does not meet the requirements for a government-to-government relationship with the United States.

DATES: Comments on this proposed finding (PF) are due on or before January 10, 2011. The petitioner then has a minimum of 60 days to respond to those comments. See the SUPPLEMENTARY INFORMATION section of this notice for more information about these dates.

ADDRESSES: Comments on the proposed finding or requests for a copy of the report which summarizes the evidence, reasoning, and analyses that are the basis for this proposed finding, should be addressed to the Office of Federal Acknowledgment, 1951 Constitution Avenue, NW., MS-34B-SIB, Washington, DC 20240. Interested or informed parties must provide copies of their submissions to the petitioner.

FOR FURTHER INFORMATION CONTACT: R. Lee Fleming, Director, Office of Federal Acknowledgment, (202) 513-7650.

SUPPLEMENTARY INFORMATION: This notice is published in accordance with authority delegated by the Secretary of the Interior (Secretary) to the AS-IA by 209 DM 8.

The petitioner claims to be a group of Choctaw Indians that migrated from North Carolina to Georgia and then Florida following the Indian removal of the 1830s. None of the available evidence in this petition or that found by OFA researchers demonstrates the validity of this claim.

All the available evidence in the petition record indicates the CNF is an association formed in 2003 of individuals who claim but have not documented Indian ancestry. Indeed, the evidence shows the group's ancestors were consistently identified as non-Indians and as living in non-Indian communities. The group incorporated in the State of Texas in July 2003, but has an office in Marianna, Florida, on the eastern part of the Florida panhandle. Available evidence indicates the group began holding meetings probably no earlier than September 2004. The regulations provide that the Department may not acknowledge associations, organizations, corporations, or groups of any character formed in recent times. Since early 2004, the membership of the group, as reflected on various membership lists, has fluctuated from a low of 52 to a high of 158.

To meet criterion 83.7(e), the petitioner must demonstrate Indian ancestry through descent from a historical Indian tribe, or tribes which combined and functioned as a single entity. The petitioner claims its members descend from the historical Choctaw Indian tribe. Most members of the petitioner claim to descend from the historical Choctaw Indian tribe through their direct ancestors Burton Hunter (ca. 1833—bef. 1907) and his wife Lucy (ca. 1842—1907). None of the available evidence demonstrates this claimed descent for Burton Hunter or his spouse Lucy from the Choctaw Indian tribe or any other Indian tribe. To reach this conclusion, the Department examined an extensive body of documentation submitted by the petitioner and obtained by Department researchers. The documentation included Federal and State censuses from 1850 to 1945, probate records from Jackson County, Florida, birth, marriage and death certificates from the State of Florida and elsewhere, church records from Jackson County, Florida, World War I civilian draft registration records, homestead application records from the General Land Office, Indian Agency rolls (with application materials) and censuses from 1848 to 1940, and historical treaties dealing with the Choctaw Indian Nation.

All the evidence clearly shows that Burton and Lucy Hunter, their relatives, and descendants were not identified as Indian and do not descend from a historical Indian tribe. No Federal or State censuses between 1870 and 1945 demonstrated that these individuals identified themselves, or that the census enumerators identified them, as Choctaw or Indian, or as belonging to Choctaw or any other Indian tribe. No county court, property, or probate records identified them as Choctaw or Indian, or as belonging to Choctaw or any other Indian tribe. No marriage, church, military, or vital records stated that the petitioner's ancestors were identified as Choctaw or Indian, or as belonging to Choctaw or any other Indian tribe. Rather, the evidence clearly shows Burton and Lucy Hunter, their relatives and their descendants were consistently identified as non-Indians living in non-Indian communities.

The Department also examined evidence, submitted by the petitioner or obtained by the Department, for six current members or their family lines that apparently descended from an individual other than the Burton or Lucy Hunter named above. This evidence included Federal and State censuses from 1850 to 1945, birth, marriage, and death records, and Indian agency rolls and censuses from 1848 to 1940. None of this evidence for these individuals or their ancestors demonstrated descent from the historical Choctaw Indian tribe or any other Indian tribe. Instead, all of the evidence showed they were consistently identified as non-Indians living in non-Indian communities.

To summarize, the petitioner claims to have descended as a group from the historical tribe of Choctaw Indians. There is no primary or reliable secondary evidence submitted by the petitioner or located by OFA showing that any of the named ancestors or members of the group descended from the historical Choctaw Indian tribe or any other Indian tribe. None of the documentation on the petitioner's members and their individual ancestors, submitted by the petitioner or found by OFA researchers, supports the petitioner's claims of descent from the historical Choctaw Indian tribe or any other Indian tribe. The extensive evidence does not support any Indian ancestry. In fact, the evidence clearly shows the petitioner's members and ancestors were consistently identified as non-Indians living in non-Indian communities.

The Department proposes to decline to acknowledge Petitioner #288 as an Indian tribe because the evidence clearly establishes that the members of the group do not descend from a historical Indian tribe as required under mandatory criterion 83.7(e). The AS-IA concludes that the CNF clearly does not meet criterion 83.7(e), which satisfies the requirement for issuing a PF under 83.10(e). If, in the response to the PF, the petitioner provides sufficient evidence that it meets criterion 83.7(e) under the reasonable likelihood standard, the Department will undertake a review of the petition under all seven mandatory criteria. If, in the response to the PF, the petitioner does not provide sufficient evidence that it meets criterion 83.7(e) under the reasonable likelihood standard, the AS-IA will issue the final determination based upon criterion 83.7(e) only.

Publication of the Assistant Secretary's PF in the Federal Register initiates a 180-day comment period during which the petitioner and interested and informed parties may submit arguments and evidence to support or rebut the conclusions in the PF (25 CFR 83.10(i)). Comments should be submitted in writing to the address listed in the ADDRESSES section of this notice. Interested or informed parties must provide copies of their submissions to the petitioner. The regulations at 25 CFR 83.10(k) provide petitioner with a minimum of 60 days to respond to any submissions on the PF received from interested and informed parties during the comment period.

At the end of the periods for comment and response on a PF, the AS-IA will consult with the petitioner and interested parties to determine an equitable timeframe for consideration of written arguments and evidence. The Department will notify the petitioner and interested parties of the date such consideration begins. After consideration of the written arguments and evidence rebutting or supporting the PF and the petitioner's response to the comments of interested parties and informed parties, the AS-IA will make a final determination regarding the petitioner's status. The Department will publish a summary of this determination in the Federal Register.

Dated: July 2, 2010.
Donald Laverdure,
Deputy Assistant Secretary—Indian Affairs.

[FR Doc. 2010-16939 Filed 7-9-10; 8:45 am]

BILLING CODE 4310-G1-P